FEDERAL ELECTION COMMISSION

Sunshine Act Meetings

Previously Scheduled Date & Time: Thursday, March 30, 2006, Meeting Open to The Public. This Meeting Was Rescheduled For Wednesday, March 29, 2006.

Dates and Time: Wednesday, March 29, 2006 at 10:00 a.m.

Place: 999 E Street, NW., Washington, DC (Ninth Floor)

Status: This Meeting Will Be Open To The Public.

Items To Be Discussed:

Correction and Approval of Minutes.

Advisory Opinion 2006-04: Representative Tancredo and Tancredo for Congress Committee, Inc., by Jon Ponder, Treasurer.

Final Rules on Coordinated Communications.

Routine Administrative Matters.

* * * * *

Date and Time: Tuesday, April 4, 2006 at 10 a.m.

Place: 999 E Street, NW., Washington, DC.

Status: This Meeting Will Be Closed To The Public.

Items To Be Discussed:

Compliance matters pursuant to 2 U.S.C. 437g.

Audits conducted pursuant to 2 U.S.C. 437g, 438(b), and Title 26, U.S.C.

Matters concerning participation in civil actions or proceedings or arbitration.

Internal personnel rules and procedures or matters affecting a particular employee.

FOR MORE INFORMATION CONTACT: Mr. Robert Biersack, Press Officer, Telephone: (202) 694-1220.

Mary W. Dove,
Secretary of the Commission.

[FR Doc. 06-2895 Filed 3-21-06; 3:19 pm]

BILLING CODE 6715-01-M